ENVIRONMENTAL PROTECTION AGENCY

40 CFR Part 80

[EPA-HQ-OAR-2016-0683; FRL 9965-88-OAR]

RIN 2060-AT61

Relaxation of the Federal Reid Vapor Pressure (RVP) Gasoline Volatility Standard for Several Parishes in Louisiana

AGENCY: Environmental Protection Agency (EPA).

ACTION: Notice of proposed rulemaking.

SUMMARY: The Environmental Protection Agency (EPA) is proposing to approve an April 10, 2017 request from the Louisiana Department of Environmental Quality (LDEQ) to relax the Federal Reid Vapor Pressure (RVP) volatility standard applicable to gasoline introduced into commerce from June 1 to September 15 of each year for the following parishes: Beauregard, Calcasieu, Jefferson, Lafayette, Lafourche, Orleans, Pointe Coupee, St. Bernard, St. Charles, St. James, and St. Mary. For this action, EPA is proposing to amend the regulations to allow the RVP volatility standard for the 11 named parishes to increase from 7.8 pounds-per-square-inch (psi) to 9.0 psi for gasoline sold within those parishes. EPA has preliminarily determined that this change to the Federal gasoline RVP volatility regulation is consistent with the applicable provisions of the Clean Air Act (CAA). LDEQ has also requested that EPA relax summertime gasoline volatility requirements for the 5-parish Baton Rouge area, and EPA will address that request in a separate rulemaking at a later date.

DATES: Written comments must be received on or before September 8, 2017 unless a public hearing is requested by August 24, 2017. If EPA receives such a request, we will publish information related to the timing and location of the hearing and announce a new deadline for public comment.

ADDRESSES: Submit your comments, identified by Docket ID No. EPA-HQ-OAR-2016-0683, to the Federal eRulemaking Portal: https://www.regulations.gov. Follow the online instructions for submitting comments. Once submitted, comments cannot be edited or withdrawn. EPA may publish any comment received by its public docket. Do not submit electronically any information you consider to be Confidential Business Information (CBI) or other information disclosure of which is restricted by statute. If you need to include CBI as part of your comment, please consult the instructions available at http://www.epa.gov/dockets/comments.html. Multimedia submissions (audio, video, etc.) must be accompanied by a written comment. The written comment is considered the official comment and should include discussion of all points you wish to make.

For additional submission methods, the full EPA public comment policy, and general guidance on making effective comments, please see the information available at http://www.epa.gov/dockets/comments.html.

FOR FURTHER INFORMATION CONTACT: Dave Sosnowski, Office of Transportation and Air Quality, Environmental Protection Agency, 2000 Traverwood Drive, Ann Arbor, Michigan 48105; telephone number: (734) 214-4823; fax number: (734) 214-4052; email address: sosnowski.dave@epa.gov. You may also contact Rudolph Kapichak at the same address; telephone number: (734) 214-4574; fax number: (734) 214-4052; email address: kapichak.rudolph@epa.gov.

SUPPLEMENTARY INFORMATION:

The contents of this preamble are listed in the following outline:

I. General Information

II. Public Participation

III. Background and Proposal

IV. Proposal

V. Statutory and Executive Order Reviews

VI. Legal Authority

I. General Information

A. Does this action apply to me?

Entities potentially affected by this proposed rule are fuel producers and distributors who do business in Louisiana.

Examples of potentially regulated entities | NAICS ¹ Codes
Petroleum refineries | 324110
Gasoline Marketers and Distributors | 424710 424720
Gasoline Retail Stations | 447110
Gasoline Transporters | 484220 484230
¹ North American Industry Classification System.

The above table is not intended to be exhaustive, but rather provides a guide for readers regarding entities likely to be affected by this action. The table lists the types of entities of which EPA is aware that could be affected by this proposed rule. Other types of entities not listed on the table could also be affected. To determine whether your organization may be affected by this proposed rule, you should carefully examine the regulations in 40 CFR 80.27. If you have questions regarding the applicability of this action to a particular entity, call the person listed in the FOR FURTHER INFORMATION CONTACT section of this preamble.

B. What is the Agency's authority for taking this action?

The statutory authority for this action is granted to EPA by sections 211(h) and 301(a) of the Clean Air Act, as amended; 42 U.S.C. 7545(h) and 7601(a).

II. Public Participation

EPA will not hold a public hearing on this matter unless a request is received by the person identified in the FOR FURTHER INFORMATION CONTACT section of this preamble by August 24, 2017. If EPA receives such a request, we will publish information related to the timing and location of the hearing and announce a new deadline for public comment.

III. Background and Proposal

A. Summary of the Proposal

EPA is proposing to approve a request from the State of Louisiana to change the summertime gasoline RVP volatility standard for the parishes of Beauregard, Calcasieu, Jefferson, Lafayette, Lafourche, Orleans, Pointe Coupee, St. Bernard, St. Charles, St. James, and St. Mary from 7.8 psi to 9.0 psi by amending EPA's regulations at 40 CFR 80.27(a)(2). EPA is deferring action on the State's relaxation request for the Baton Rouge area (i.e., the parishes of Ascension, East Baton Rouge, Iberville, Livingston, and West Baton Rouge) pending a revision of Louisiana's SIP to address the requisite CAA section 110(l) non-interference demonstration that using the higher RVP fuel will not negatively impact air quality in the area or interfere with the area's ability to meet any applicable CAA requirements.

The preamble for this rulemaking is organized as follows: Section III.B. provides the history of the federal gasoline volatility regulation. Section III.C. describes the policy regarding relaxation of gasoline volatility standards in ozone nonattainment areas that are redesignated as attainment areas. Section III.D. provides information specific to Louisiana's request for the 11 parishes, and EPA's rationale for proposing approval without a CAA section 110(l) noninterference demonstration from the State.

B. History of the Gasoline Volatility Requirement

On August 19, 1987 (52 FR 31274), EPA determined that gasoline nationwide was becoming increasingly volatile, causing an increase in evaporative emissions from gasoline-powered vehicles and equipment. Evaporative emissions from gasoline, referred to as volatile organic compounds (VOCs), are precursors to the formation of tropospheric ozone and contribute to the nation's ground-level ozone problem. Exposure to ground-level ozone can reduce lung function, thereby aggravating asthma and other respiratory conditions, increase susceptibility to respiratory infection, and may contribute to premature death in people with heart and lung disease.

The most common measure of fuel volatility that is useful in evaluating gasoline evaporative emissions is RVP, which is measured in pounds-per-square-inch or psi. Under CAA section 211(c), EPA promulgated regulations on March 22, 1989 (54 FR 11868) that set maximum limits for the RVP of gasoline sold during the regulatory control periods that were established on a state-by-state basis in the final rule. The regulatory control periods addressed the portion of the year when peak ozone concentrations were expected. These regulations constituted Phase I of a two-phase nationwide program, which was designed to reduce the volatility of gasoline during the high ozone season. On June 11, 1990 (55 FR 23658), EPA promulgated more stringent volatility controls as Phase II of the volatility control program. These requirements established maximum RVP standards of 9.0 psi or 7.8 psi (depending on the state, the month, and the area's initial ozone attainment designation with respect to the 1-hour ozone NAAQS).

The 1990 CAA Amendments established a new CAA section 211(h) to address fuel volatility. CAA section 211(h) requires EPA to promulgate regulations making it unlawful to sell, offer for sale, dispense, supply, offer for supply, transport, or introduce into commerce gasoline with an RVP level in excess of 9.0 psi during the high ozone season. CAA section 211(h) also prohibits EPA from establishing a volatility standard more stringent than 9.0 psi in an attainment area, except that EPA may impose a lower (more stringent) standard in any former ozone nonattainment area redesignated to attainment.

On December 12, 1991 (56 FR 64704), EPA modified the Phase II volatility regulations to be consistent with CAA section 211(h). The modified regulations prohibited the sale of gasoline with an RVP above 9.0 psi in all areas designated attainment for ozone, effective January 13, 1992. For areas designated as nonattainment, the regulations retained the original Phase II standards published on June 11, 1990 (55 FR 23658), which included the 7.8 psi ozone season limitation for certain areas. As stated in the preamble to the Phase II volatility controls and reiterated in the proposed change to the volatility standards published in 1991, EPA will rely on states to initiate requests to change volatility requirements applicable to them. EPA's policy for approving such changes is described below in Section III.C.

Because these 11 parishes are no longer within the timeframe covered by any approved maintenance plan for ozone the State does not need to submit and EPA does not need to approve either a revision to an approved maintenance plan or a non-interference demonstration under CAA section 110(l). CAA section 110(l) states that the “Administrator shall not approve a revision of a plan, if the revision would interfere with any applicable requirement concerning attainment and reasonable further progress (as defined in section 7501 of this title), or any other applicable requirement of this chapter” [emphasis added]. CAA section 110(l) applies when the Administrator approves a revision to a plan. In the case of the 11 parishes and the request to relax the federal summertime gasoline volatility limit, there is no plan to revise and the action, if finalized, would result in a change to the Federal gasoline volatility regulation as opposed to a change to any approved state plan. EPA's reasons for proposing to approve the State's request are discussed in Section III.D.

C. EPA's Policy Regarding Relaxation of Federal Gasoline Volatility Standards

As stated in the preamble for EPA's amended Phase II volatility standards (See 56 FR 64706, December 12, 1991), any change in the gasoline volatility standard for a nonattainment area that was subsequently redesignated as an attainment area must be accomplished through a separate rulemaking that revises the applicable standard for that area. Thus, for former 1-hour ozone nonattainment areas where EPA mandated a Phase II summertime volatility standard of 7.8 psi RVP in the December 12, 1991 rulemaking, the federal 7.8 psi gasoline RVP requirement remains in effect, even after such an area is redesignated to attainment, until a separate rulemaking is completed that relaxes the federal summertime gasoline RVP volatility standard in that area from 7.8 psi to 9.0 psi.

As explained in the December 12, 1991 rulemaking, EPA believes that relaxation of an applicable gasoline RVP standard is best accomplished in conjunction with the redesignation process. In order for an ozone nonattainment area to be redesignated as an attainment area, CAA section 107(d)(3) requires the state to make a showing, pursuant to CAA section 175A, that the area is capable of maintaining attainment for the ozone NAAQS for ten years. Depending on the area's circumstances, this maintenance plan will either demonstrate that the area is capable of maintaining attainment for ten years without the more stringent volatility standard or that the more stringent volatility standard may be necessary for the area to maintain its attainment with the ozone NAAQS. Therefore, in the context of a request for redesignation, EPA will not relax the summertime gasoline volatility standard unless the state requests a relaxation and the maintenance plan demonstrates to the satisfaction of EPA that the area will maintain attainment for ten years without the need for the more stringent summertime volatility standard.

Some former 1-hour ozone nonattainment areas that remain subject to the federal summertime RVP limit of 7.8 psi have been designated as attainment areas for both the 1997 and 2008 ozone NAAQS and based on the latest available air quality data are also attaining the more stringent 2015 ozone NAAQS.

As required by the Phase 1 implementation rule for the 1997 ozone NAAQS, states submitted, and EPA approved, CAA section 110(a)(1) maintenance plans for these areas. These CAA section 110(a)(1) maintenance plans were required to provide for maintenance of the 1997 ozone NAAQS for a period of 10 years after areas were designated for that NAAQS in 2004. (See 69 FR 23951, April 30, 2004.) Such areas were not required by the implementation rule for the 2008 ozone NAAQS to submit a maintenance plan for that NAAQS. (See 80 FR 12264, March 6, 2015.) These areas are not currently within the timeframe addressed by any maintenance plans for any ozone NAAQS.

EPA has concluded that there is neither an implementation plan revision nor a CAA section 110(l) demonstration required in order for EPA to approve a state's request to relax the federal summertime gasoline RVP limit under the circumstances described above for such areas including the 11 parishes that are the subject of this proposal. In order for EPA to approve a request to relax the federal RVP limit for such areas, the Governor or his/her designee must request that the Administrator revise the federal gasoline RVP regulations to remove the subject areas from the list of required areas in 40 CFR 80.27(a)(2). The state may provide any relevant supporting information such as recent air quality data, designation status for ozone and information on previously approved ozone maintenance plans. The Administrator's decision on whether to grant a state's request to revise the federal gasoline RVP regulations in such cases would be documented through notice and comment rulemaking.

D. Louisiana's Request To Relax the Federal Summertime Gasoline RVP Volatility Requirement for Several Parishes in the State

On April 10, 2017, LDEQ requested that EPA relax the current summertime gasoline RVP volatility standard of 7.8 psi to 9.0 psi for 16 Louisiana parishes, the 5 parishes of the Baton Rouge area, and 11 other parishes: Beauregard, Calcasieu, Jefferson, Lafayette, Lafourche, Orleans, Pointe Coupee, St. Bernard, St. Charles, St. James, and St. Mary. These other 11 parishes attained the 1-hour ozone NAAQS and were redesignated to attainment with approved CAA section 175A maintenance plans. They were then designated as attainment for the 1997 ozone NAAQS. As such, the State was required by EPA's Phase 1 rule, which implemented the 1997 ozone NAAQS, to submit CAA section 110(a)(1) maintenance plans for these parishes that addressed the 10-year period from 2004 to 2014.² (See 69 FR 23951, April 30, 2004.) For more information on Louisiana's section 110(a)(1) maintenance plans for the 1997 ozone NAAQS, please refer to the following Federal Register notices approving the maintenance plans for the parishes listed parenthetically after the citation: 72 FR 62579 (Beauregard and St. Mary Parishes); 73 FR 15411 (Lafayette and Lafourche Parishes); 78 FR 57058 (Pointe Coupee Parish); 73 FR 53403 (New Orleans Parish); and 73 FR 59518 (Calcasieu and St. James Parishes). Louisiana was not required to submit second 10-year CAA section 175A maintenance plans for the 1-hour ozone NAAQS for these parishes. In 2012, all 11 parishes were designated as attainment for the 2008 ozone NAAQS. Because they were designated as attainment for both the 2008 and 1997 ozone NAAQS, they were not required to submit a CAA section 110(a)(1) maintenance plan for the 2008 ozone NAAQS. Therefore, these parishes are no longer within the timeframe that was addressed by any approved maintenance plan for any ozone NAAQS. The 11 parishes that are the subject of today's proposal are all attaining the more stringent 2015 ozone NAAQS, and the State did not recommend that any of these 11 parishes be designated as nonattainment for the 2015 ozone NAAQS.³

² The Phase 1 implementation rule for the 1997 ozone NAAQS did not require the submission of a second 10-year maintenance plan for the 1997 ozone NAAQS.

³ On September 29, 2015 Louisiana submitted a letter to EPA recommending designations for the 2015 ozone NAAQS. The State recommended that all of the 11 parishes addressed in this proposed action be designated as unclassifiable/attainment. The letter is available at: https://www.epa.gov/ozone-designations/ozone-designations-2015-standards-louisiana-state-recommendations.

The current ozone design values for the parishes in question, based upon 2013-2015 air quality data are well below the 2015 ozone NAAQS of 70 parts-per-billion (ppb) as shown in Table 1 below.

⁴ Beauregard and St. Mary Parishes were allowed to discontinue their ozone monitors in 2006. Beauregard Parish sits just north of Calcasieu Parish and Calcasieu Parish is meeting the 2015 ozone NAAQS with a 2013-2015 ozone design value of 68 ppb. St. Mary Parish sits between Lafayette and Lafourche Parishes, which both are currently meeting the 2015 ozone NAAQS. Lafayette has a 2013-2015 ozone design value of 67 ppb and Lafourche Parish has a 2013-2015 ozone design value of 65 ppb. Orleans and St. Charles Parishes were allowed to discontinue their ozone monitors at the end of 2014. Thus, the design values in the table for these two parishes are based on data from 2012-2014. Orleans and St. Charles Parishes are in the New Orleans metropolitan area. Jefferson and St. Bernard Parishes are also in the New Orleans area. Both of these parishes are meeting the 2015 ozone NAAQS with design values of 68 ppb and 65 ppb, respectively.

Table 1—Ozone Design Values ⁴
Parish | 2013-2015 Ozone design value (ppb)
Beauregard | N/A
Calcasieu | 68
Jefferson | 68
Lafayette | 67
Lafourche | 65
Orleans | 67
Pointe Coupee | 68
St. Bernard | 65
St. Charles | 65
St. James | 65
St. Mary | N/A

As previously explained, because these 11 parishes are no longer within the timeframe addressed by any ozone maintenance plan and are not subject to any additional ozone planning requirement under the Act, the proposed change from the more stringent federal RVP gasoline volatility requirement of 7.8 psi to the less stringent 9.0 psi gasoline RVP requirement in these areas does not trigger a requirement that the State provide a non-interference demonstration under CAA section 110(l) for these parishes, as would otherwise be required if the areas in question were still within the time period addressed by a CAA section 175A or CAA section 110(a) maintenance plan or were currently designated as nonattainment for any ozone NAAQS. Moreover, the projections for VOC emissions (i.e., the ozone precursor controlled through RVP limitations) from the previously approved CAA section 110(a)(1) maintenance plans for the 1997 ozone NAAQS for the areas covered by the State's request show relatively flat or downward trends through 2014, as illustrated in Table 2 below.

Table 2—Maintenance Plan VOC Emission Projections
Parish | 2002 (tpd) ⁵ | 2014 (tpd) | Change (tpd)
Beauregard | 13.91 | 14.02 | 0.11
Calcasieu | 49.59 | 48.93 | −0.66
Lafayette | 27.23 | 19.75 | −7.48
Lafourche | 24.2 | 17.95 | −6.25
New Orleans | 161.83 | 129.71 | −32.12
Pointe Coupee | 8.63 | 7.66 | −0.97
St. James | 7.81 | 8.28 | 0.47
St. Mary | 18.74 | 15.01 | −3.73

There are several reasons why these trends are expected to continue regardless of EPA's proposed approval of the State's request to relax federal summertime gasoline RVP volatility requirements in these 11 parishes. For example, the maintenance plan projections listed in Table 2 do not include the emissions impacts from several national rules that will reduce actual VOC and/or oxides of nitrogen (NOX) emissions from point sources, area sources, as well as on-road and nonroad mobile sources. The national rules that result in VOC and/or NOX emission reductions not included in the above projection include: EPA's national rules for VOC emission standards for Consumer and Commercial Products (71 FR 58745, 72 FR 57215, 73 FR 40230, 73 FR 58481); Locomotive and Marine Compression-Ignition Engines rule (73 FR 16435); Control of Hazardous Air Pollutants from Mobile Sources (72 FR 8428); Control of Emissions from Non-road Spark-Ignition Engines and Equipment (73 FR 59034); Control of Air Pollution From Aircraft and Aircraft Engines; Emission Standards and Test Procedures (77 FR 36342); and Control of Emissions from New Marine Compression-Ignition Engines at or Above 30 Liters per Cylinder (75 FR 22896). Each of these rules was adopted either at the time that Louisiana submitted the CAA section 110(a) maintenance plans for the 11 parishes or after those plans were submitted to EPA for approval. These rules all result in reductions of VOCs and/or NOX that will ensure the downward trends seen in the maintenance plans for the covered areas continue into the future and that the parishes continue to maintain all of the ozone NAAQS including the 2015 ozone NAAQS.

⁵ tpd = tons per day.

VOC and NOX emissions from on-road mobile sources are also projected to decrease as the in-use fleet turns over to newer, cleaner vehicles. In this vein, it is worth noting that the implementation of EPA's Tier 3 Vehicle and Fuel Standards should also help to continue the downward trend in ozone precursors well into the future. (See 79 FR 23414, April 28, 2014.) The Tier 3 motor vehicle emissions standards and gasoline standards went into effect on January 1, 2017. The rule is designed to produce an immediate decrease in emissions of VOCs and NOX due to both the cleaner new vehicles but also because the gasoline required under the Tier 3 rule contains less sulfur. Gasoline sulfur controls like those included in the Tier 3 fuel standards are necessary for the introduction of advanced clean technologies on vehicles, which emit at very low levels. Less sulfur in the gasoline allows the catalytic converters on vehicles in the existing fleet to function better for a longer period of time providing a reduction in NOX and VOC emissions from the existing fleet that starts immediately.

Lastly, while relaxing the federal gasoline RVP volatility requirement in the areas covered by the State's request could, if considered in isolation, result in a slight increase in VOCs, it is not appropriate to consider the relaxation in these parishes in isolation. The RVP relaxation must be considered in context with the emissions reductions that are attributable to recent regulations on a wide range of sources including the Tier 3 vehicle emission and fuel regulations, which have been implemented since the State last submitted maintenance plans for these areas. When considered with those other recent regulations, the RVP relaxation is not likely to interfere with the 11 parishes' ability to continue meeting the applicable ozone standards. For the reasons cited above, EPA does not believe that the RVP relaxation will translate into measurable ground-level ozone concentration changes.

Therefore and given that: (1) The design values for the areas covered by the request are already well below even the most recent and stringent 2015 ozone NAAQS of 70 ppb, and (2) any increase in VOC emissions are expected to be offset by continued fleet turnover and national rules aimed at reducing VOC and NOX emissions from numerous sources, EPA has concluded that a relaxation of the federal RVP fuel requirement will not have an appreciable impact on ozone levels and that these 11 parishes will remain in attainment of the ozone NAAQS. EPA is therefore proposing to approve Louisiana's relaxation request for the 11 parishes included in the State's request.

IV. Proposal

In this action, EPA is proposing to approve Louisiana's request to relax the summertime ozone season gasoline RVP volatility standard for Beauregard, Calcasieu, Jefferson, Lafayette, Lafourche, Orleans, Pointe Coupee, St. Bernard, St. Charles, St. James, and St. Mary parishes from 7.8 psi to 9.0 psi. Specifically, EPA is proposing to amend the applicable gasoline RVP standard to allow the gasoline RVP requirements to rise from 7.8 psi to 9.0 psi as provided for at 40 CFR 80.27(a)(2) for the 11 named parishes. This proposal to approve Louisiana's request to relax the summertime ozone season gasoline RVP volatility standard for the 11 parishes from 7.8 psi to 9.0 psi is based on the redesignation of the named areas to attainment of the 1-hour ozone standard and their designation as attainment for the 1997 and 2008 ozone NAAQS. Additionally, the recent air quality data from monitors in the parishes demonstrates that they are attaining the 2015 ozone NAAQS of 70 ppb. And lastly, emission reductions from national rules aimed at reducing VOCs and NOX that were not previously claimed or accounted for in the State's projection of VOC trends for its maintenance plans will ensure continued attainment of the 2015 ozone NAAQS. EPA intends to examine whether there is “good cause,” under 5 U.S.C. 553(d)(3), to designate the publication date of the final rule (based on today's proposal) as the effective date for implementation of the final rule.

V. Statutory and Executive Order Reviews

A. Executive Order 12866: Regulatory Planning and Review and Executive Order 13563: Improving Regulation and Regulatory Review

This action is not a “significant regulatory action” under the terms of Executive Order 12866 (58 FR 51735, October 4, 1993) and is therefore not subject to review under Executive Orders 12866 and 13563. (76 FR 3821, January 21, 2011).

B. Paperwork Reduction Act

This action does not impose any new information collection burden under the provisions of the Paperwork Reduction Act, 44 U.S.C. 3501 et seq., and therefore is not subject to these requirements.

C. Regulatory Flexibility Act (RFA)

I certify that this action will not have a significant economic impact on a substantial number of small entities under the RFA. In making this determination, the impact of concern is any significant adverse economic impact on small entities. An agency may certify that a rule will not have a significant economic impact on a substantial number of small entities if the rule relieves regulatory burden, has no net burden or otherwise has a positive economic effect on the small entities subject to the rule. The small entities subject to the requirements of this action are refiners, importers or blenders of gasoline that choose to produce or import low RVP gasoline for sale in Louisiana and gasoline distributers and retail stations in Louisiana. This action relaxes the federal RVP standard for gasoline sold in the Louisiana parishes of Beauregard, Calcasieu, Jefferson, Lafayette, Lafourche, Orleans, Pointe Coupee, St. Bernard, St. Charles, St. James, and St. Mary during the summertime ozone season (June 1 to September 15 of each year) to allow the RVP for gasoline sold in the named parishes to rise from 7.8 psi to 9.0 psi. This rule does not impose any requirements or create impacts on small entities beyond those, if any, already required by or resulting from the CAA section 211(h) Volatility Control program. We have therefore concluded that this action will have no net regulatory burden for all directly regulated small entities.

D. Unfunded Mandates Reform Act (UMRA)

This final rule does not contain an unfunded mandate of $100 million or more as described in UMRA, 2 U.S.C. 1531-1538, and does not significantly or uniquely affect small governments. The action implements mandates specifically and explicitly set forth in CAA section 211(h) without the exercise of any policy discretion by EPA.

E. Executive Order 13132 (Federalism)

This action does not have federalism implications. It will not have substantial direct effects on the states, on the relationship between the national government and the states, or on the distribution of power and responsibilities among the various levels of government.

F. Executive Order 13175: Consultation and Coordination With Indian Tribal Governments

This action does not have tribal implications, as specified in Executive Order 13175 (65 FR 67249, November 9, 2000). This proposal affects only those refiners, importers or blenders of gasoline that choose to produce or import low RVP gasoline for sale in Louisiana and gasoline distributers and retail stations in Louisiana. Thus, Executive Order 13175 does not apply to this action.

G. Executive Order 13045: Protection of Children From Environmental Health and Safety Risks

EPA interprets Executive Order 13045 as applying only to those regulatory actions that concern environmental health or safety risks that EPA has reason to believe may disproportionately affect children, per the definition of “covered regulatory action” in section 2-202 of the Executive Order. EPA has no reason to believe that this action may disproportionately affect children based on available ozone air quality data and VOC and NOX emissions information. EPA has preliminarily concluded that a relaxation of the gasoline RVP will not interfere with the attainment of the ozone NAAQS, or any other applicable CAA requirement in these 11 Louisiana parishes.

H. Executive Order 13211: Actions Concerning Regulations That Significantly Affect Energy Supply, Distribution, or Use

This action is not subject to Executive Order 13211 because it is not a significant regulatory action under Executive Order 12866.

I. National Technology Transfer Advancement Act

This action does not involve technical standards.

J. Executive Order 12898: Federal Actions To Address Environmental Justice in Minority Populations and Low-Income Populations

EPA believes the human health or environmental risk addressed by this action will not have potential disproportionately high and adverse human health or environmental effects on minority, low-income, or indigenous populations because it does not affect the applicable ozone NAAQS which establish the level of protection provided to human health or the environment. This rule would relax the applicable volatility standard of gasoline during the summer, though it is unlikely that the relaxation would cause a measurable increase in ozone concentrations and therefore it would not result in the named parishes exceeding either the original ozone standard that triggered the low RVP requirement or any subsequent ozone standard, including the most recent ozone standard promulgated in 2015 based upon EPA's previous experiences with ozone attainment areas that have relaxed fuel RVP requirements.

VI. Legal Authority

The statutory authority for this action is granted to EPA by sections 211(h) and 301(a) of the Clean Air Act, as amended; 42 U.S.C. 7545(h) and 7601(a).

List of Subjects in 40 CFR Part 80

Environmental protection, Administrative practice and procedures, Air pollution control, Fuel additives, Gasoline, Motor vehicle and motor vehicle engines, Motor vehicle pollution, Penalties, Reporting and recordkeeping requirements.

Dated: August 1, 2017.
E. Scott Pruitt,
Administrator.

[FR Doc. 2017-16691 Filed 8-8-17; 8:45 am]

BILLING CODE 6560-50-P